DEPARTMENT OF TRANSPORTATION

Federal Aviation Administration

Policy for Discontinuance of World Aeronautical Chart Series

AGENCY: Federal Aviation Administration (FAA), DOT.

ACTION: Notice of policy to discontinue the World Aeronautical Chart.

SUMMARY: This notice announces the FAA's decision to discontinue providing the World Aeronautical Chart series. Technological advances in aviation navigation capabilities and charting products have made the World Aeronautical Chart series largely obsolete. Charting customers have shifted towards digital chart products. The World Aeronautical Charts are a derivative product from our more detailed Sectional Aeronautical Chart series. With aviators using the more detailed large scale Sectional Aeronautical Charts and often the digital versions in the moving map technology found in modern electronic flight bag system, the World Aeronautical Charts are no longer needed. The discontinuance of this low-demand product allows the FAA to apply those resources to continue to modernize charting for safe and efficient navigation.

DATES: June 23, 2015.

FOR FURTHER INFORMATION CONTACT: For questions or comments concerning this action, contact Mr. Eric Freed, Aeronautical Information Services, Enroute and Visual Charting Group, Manager, Air Traffic Organization, AJV-5200, Federal Aviation Administration, 1305 East-West HWY, Silver Spring, MD 20910; telephone (301) 427-5080, email eric.freed@faa.gov.

SUPPLEMENTARY INFORMATION:

Authority

Title 49 of the United States Code, section 44721, authorizes the FAA to arrange for the publication of aeronautical maps and charts necessary for the safe and efficient movement of aircraft in air navigation. Specifically, paragraphs (d)(2)and (3) of this section provide that that the Administrator may “ . . . (2) compile, print, and disseminate aeronautical charts and related products and services of the United States and its territories and possessions; (3) compile, print, and disseminate aeronautical charts and related products and services covering international airspace as required primarily by United Stated civil aviation . . . ” (See 49 U.S.C. 44721(d)(2) and (3).)

Background

The FAA is continuing to expand the availability and capability of modern aeronautical navigation products. At the same time, we must rigorously analyze our suite of products and determine the feasibility and practicability of providing products that are no longer in demand from the public or have become obsolete due to technological advances. Since 2007, unit sales of the World Aeronautical Charts are down 73 percent. (Sales are down 10% year over year 2013/2014.) The cost to develop this product is independent of the sales. The cost of resources drives a steady and consistent rise in costs associated with the production of the World Aeronautical Chart to the FAA.

The National Geospatial-Intelligence Agency has stopped purchasing the World Aeronautical Chart products for distribution to the military and has advised that electronic flight bag moving map technology and reliance on the larger scale Sectional Aeronautical Chart series have made the World Aeronautical Chart products obsolete for its purposes. General aviation similarly has embraced the readily available and affordable electronic flight bag technology and flight planning applications.

The FAA has obligations to meet International Civil Aviation Organization requirements for the availability of visual air navigation charts. (See Annex 4 to the Convention on International Civil Aviation.) This availability can be met when operational or chart production considerations indicate that operational requirements can be effectively satisfied by Aeronautical Charts at the 1:500,000 scale.

The FAA concludes that maintenance of both VFR series charts (the World Aeronautical Charts at a scale of 1:1,000,000 and the Sectional Aeronautical Charts at a scale of 1:500,000) is unsustainable. As a derivative product, the World Aeronautical Chart does not contain the full aeronautical and base information available to users of the Sectional Aeronautical Charts.

The FAA presented, Discontinuation of World Aeronautical Charts (WAC) an Initial Discussion, to attendees of the Aeronautical Charting Forum meeting on May 1, 2014 and to the Air Traffic Procedures Advisory Committee meeting on May 7, 2014. Both of these public forums are attended by a broad segment of the industry and flying public (the military, airlines, airline pilots, air traffic control personnel, general aviation pilots and business pilots, and their representatives) interested in charting specifications, the overall organizational structure, and the management approach of the FAA with respect to charting issues. Initial industry reactions naturally reflected a defense of their niche segments utilization of the WAC product. No substantive support was found to sustain production.

Therefore, the FAA has determined to discontinue the World Aeronautical Chart series.

While no explicit obligation exists for the United States to chart international areas encompassing sovereign nations in the Caribbean, we recognize that limited independent charting may be available. As a courtesy to those sovereign nations in the Caribbean, the three U.S. WAC charts with Caribbean coverage (CH-25, CJ-26, and CJ-27) will be maintained, marginally longer than other U.S. WAC charts, until the last scheduled edition printing per the Dates of Latest Editions. All other U.S. WAC charts will end upon their last printing previously scheduled in FY 15.

Policy

Based on the foregoing, the FAA will discontinue the compilation, printing, and dissemination of the World Aeronautical Chart series and we will continue to maintain the compliment of other comprehensive visual aeronautical charts. Charts: CC-8, CC-9; CD-10, CD-11, CD-12; CE-12, CE-13, CE-15; CF-16, CF-17, CF-18, CF-19; CG-18, CG-19, CG-20, CG-21; CH-22, CH-23, and CH-24 will cease to be printed beyond September 17, 2015. Charts: CH-25; CJ-26, and CJ-27 production will end upon their next scheduled printing dates of December 10, 2015; February 04, 2016, and March 31, 2016 respectively. (See the Dates of Latest Edition).

Abigail Smith,
Director, Aeronautical Navigation Products.

[FR Doc. 2015-15271 Filed 6-22-15; 8:45 am]

BILLING CODE 4910-13-P